FEDERAL COMMUNICATIONS COMMISSION

[CC Docket No. 96-45; DA 07-1327]

Additional Comment Sought on Petition of Genesis Communications International, Inc. for Declaratory Rulings Regarding Lifeline Assistance Revenues

AGENCY: Federal Communications Commission.

ACTION: Notice; solicitation of comments.

SUMMARY: In this document, the Wireline Competition Bureau (Bureau) seeks to refresh the record on issues raised in the Petition of Genesis Communications International, Inc. (Genesis) for Declaratory Rulings Regarding Lifeline Assistance Revenues (Petition). Because comments and reply comments on the issue were filed several years ago, the passage of time and intervening developments have rendered the records developed by those commenters stale. Moreover, some issues raised by commenters may have become moot or irrelevant in light of intervening events. For these reasons, the Bureau requests that parties refresh the record with any new information or arguments they believe to be relevant to deciding the issues still pending.

DATES: Comments are due on or before August 17, 2007. Reply comments are due on or before September 4, 2007.

ADDRESSES: Federal Communications Commission, 445 12th Street, SW., Washington, DC 20554. See Supplementary Information for further filing instructions.

FOR FURTHER INFORMATION CONTACT: Dana Bradford, Telecommunications Access Policy Division, Wireline Competition Bureau, (202) 418-7400 or TTY: 202-418-0432.

SUPPLEMENTARY INFORMATION: This is a summary of Additional Comment Sought on Petition of Genesis Communications International, Inc. for Declaratory Rulings Regarding Lifeline Assistance Revenues, CC Docket No. 96-45, DA 07-1327, released March 16, 2007.

1. In 2000, the Commission denied a complaint filed by Genesis against Pacific Bell (Pacific) seeking reimbursement of certain End User Common Line (EUCL) charges. Genesis then sought to recover the funds in a suit against the National Exchange Carrier Association, Inc. (NECA). Genesis and NECA subsequently agreed to stay the action pending referral to the Commission of Genesis's claim for retroactive reimbursement via its petition in the above captioned docket.

2. On November 16, 2000, Genesis filed the current Petition seeking a declaratory ruling from the Commission regarding: (1) Whether Commission certification of Genesis's eligibility was a prerequisite to obtaining reimbursement from NECA for Lifeline discounts given to eligible end users under California's Universal Lifeline Telephone Service program; and (2) whether Genesis was entitled to submit claims and receive reimbursement from NECA on a retroactive basis. The Petition was put on Public Notice for comment on March 27, 2001. In response, NECA and Genesis both asserted that, should reimbursement be warranted, the Universal Service Administrative Company (USAC) should disburse the funds.

3. Since the dispute arose, the Commission has amended the Lifeline rules, and transferred responsibility for the program's administration from NECA to USAC. The Bureau issues this Public Notice to update several issues contained in the current record, as well as any additional information that may have become relevant to the proceeding.

4. Pursuant to §§ 1.415 and 1.419 of the Commission's rules, 47 CFR 1.415, 1.419, interested parties may file comments that are due on or before August 17, 2007 and reply comments that are due on or before September 4, 2007. Interested parties may file comments and reply comments on or before the date indicated on the first page of this document. Comments may be filed using: (1) The Commission's Electronic Comment Filing System (ECFS), (2) the Federal Government's eRulemaking Portal, or (3) by filing paper copies. See Electronic Filing of Documents in Rulemaking Proceedings, 63 FR 24121, April 6, 1998.

• Electronic Filers: Comments may be filed electronically using the Internet by accessing the ECFS: http://www.fcc.gov/cgb/ecfs/ or the Federal eRulemaking Portal http://www.regulations.gov. Filers should follow the instructions provided on the Web site for submitting comments.

• For ECFS Filers: If multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to: ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number. Filings can be sent by hand or messenger delivery, by commercial overnight courier, or by first-class or overnight U.S. Postal Service mail (although we continue to experience delays in receiving U.S. Postal Service mail). All filings must be addressed to the Commission's Secretary, Office of the Secretary, Federal Communications Commission.

The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class, Express, and Priority mail should be addressed to 445 12th Street, SW., Washington, DC 20554.

People with Disabilities: To request materials in accessible formats for people with disabilities (braille, large print, electronic files, audio format), send an e-mail to: fcc504@fcc.gov, or call the Consumer & Governmental Affairs Bureau at 202-418-0530 (voice), 202-418-0432 (tty).

You may submit comments, identified by the above noted docket number, by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone: 202-418-0530 or TTY: 202-418-0432.

In addition, one copy of each pleading must be sent to each of the following:

(1) The Commission's duplicating contractor, Best Copy and Printing, Inc., 445 12th Street, SW., Room CY-B402, Washington, DC 20554, http://www.bcpiweb.com; phone: 202-488-5300; fax: 202-488-5563; and

(2) Antoinette Stevens, Telecommunications Access Policy Division, Wireline Competition Bureau, 445 12th Street, SW., Room 5B-521, Washington, DC 20554; e-mail: antoinette.stevens@fcc.gov; and

(3) Dana Walton-Bradford, Telecommunications Access Policy Division, Wireline Competition Bureau, 445 12th Street, SW., Room 5A-423, Washington, DC 20554; e-mail: dana.walton-bradford@fcc.gov.

5. Filings and comments are also available for public inspection and copying during regular business hours at the FCC Reference Information Center, Portals II, 445 12th Street, SW., Room CY-A257, Washington, DC 20554. They may also be purchased from the Commission's duplicating contractor, Best Copy and Printing, Inc., Portals II, 445 12th Street, SW., Room CYB402, Washington, DC 20554, telephone: 202-488-5300, fax: 202-488-5563, or via e-mail at: http://www.bcpiweb.com.

6. This matter shall be treated as a “permit-but-disclose” proceeding in accordance with the Commission's ex parte rules. Persons making oral ex parte presentations are reminded that memoranda summarizing the presentations must contain summaries of the substance of the presentation and not merely a listing of the subjects discussed. More than a one or two sentence description of the views and arguments presented generally is required. Other rules pertaining to oral and written ex parte presentations in permit-but-disclose proceedings are set forth in § 1.1206(b) of the Commission's rules.

Federal Communications Commission.
Jeremy D. Marcus,
Division Chief, Telecommunications Access Policy Division, Wireline Competition Bureau.

[FR Doc. E7-13722 Filed 7-17-07; 8:45 am]

BILLING CODE 6712-01-P